DEPARTMENT OF TRANSPORTATION

Federal Aviation Administration

14 CFR Part 39

[Docket No. 99-NM-26-AD; Amendment 39-11902; AD 2000-19-01]

RIN 2120-AA64

Airworthiness Directives; Bombardier Model CL-600-1A11 (CL-600) and CL-600-2A12 (CL-601) Series Airplanes

AGENCY: Federal Aviation Administration, DOT.

ACTION: Final rule.

SUMMARY: This amendment adopts a new airworthiness directive (AD), applicable to Bombardier Model CL-600-1A11 (CL-600) and CL-600-2A12 (CL-601) series airplanes, that requires modification of the main landing gear (MLG) brake units and inboard MLG wheels; and a revision to the Airplane Flight Manual (AFM) to include the increased cooling times for the modified brakes. This amendment allows, for certain cases, removal of the inboard and/or outboard wheel discs by installation of a placard to limit airplane operation on the ground and a revision to the AFM to include information for operating the airplane with the wheel discs removed. Additionally, this amendment provides for an acceptable method of compliance that involves installation of a new revision to the AFM. This amendment is prompted by issuance of mandatory continuing airworthiness information by a foreign civil airworthiness authority. The actions specified by this AD are intended to prevent water freezing on the brake while the airplane is in flight due to water, slush, or snow from the runway entering into the brake assemblies during takeoff, and consequently, a tire burst during landing of the airplane.

DATES: Effective October 25, 2000.

The incorporation by reference of certain publications listed in the regulations is approved by the Director of the Federal Register as of October 25, 2000.

ADDRESSES: The service information referenced in this AD may be obtained from Bombardier, Inc., Canadair, Aerospace Group, P.O. Box 6087, Station Centre-ville, Montreal, Quebec H3C 3G9, Canada. This information may be examined at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

FOR FURTHER INFORMATION CONTACT: James E. Delisio, Aerospace Engineer, Airframe and Propulsion Branch, ANE-171, FAA, New York Aircraft Certification Office, 10 Fifth Street, Third Floor, Valley Stream, New York 11581; telephone (516) 256-7521; fax (516) 568-2716.

SUPPLEMENTARY INFORMATION: A proposal to amend part 39 of the Federal Aviation Regulations (14 CFR part 39) to include an airworthiness directive (AD) that is applicable to certain Bombardier Model CL-600-1A11 (CL-600) and CL-600-2A12 (CL-601) series airplanes was published in the Federal Register on March 31, 2000 (65 FR 17208). That action proposed to require modification of the main landing gear (MLG) brake units and inboard MLG wheels; and a revision to the Airplane Flight Manual (AFM) to include the increased cooling times for the modified brakes. That action also proposed to allow, for certain cases, removal of the inboard and/or outboard wheel discs by installation of a placard to limit airplane operation on the ground and a revision to the AFM to include information for operating the airplane with the wheel discs removed.

Comments

Interested persons have been afforded an opportunity to participate in the making of this amendment. Due consideration has been given to the single comment received.

Request to Withdraw the Proposal

The commenter points out that the manufacturer has issued, and the FAA has approved, a revision of the AFM's for the applicable airplane models that contain procedures to dry out the brakes. [Bombardier Model CL-600-1A11 (CL-600) AFM Revisions A84 and 76, both dated February 7, 2000; and Model CL600-2A12 (CL-601) AFM Revisions 45, 48, 50, and 86, all dated February 7, 2000.] The AFM revision for the applicable airplane models also contains procedures calling for a minimum number of brake applications during taxi prior to take-off when operating on wet, snow covered, or slush covered surfaces. The commenter concludes that the modification of the MLG units and inboard MLG wheels specified in the proposal is no longer necessary. The FAA infers that the commenter is requesting that the NPRM be withdrawn.

The FAA does not concur that the NPRM should be withdrawn. Since an identified unsafe condition would still exist, the FAA would be obligated to proceed with another NPRM proposing that the new AFM revisions be mandated. The FAA finds that to delay this action would be inappropriate in light of the unsafe condition. However, the FAA acknowledges that the procedures described in the new AFM revisions do provide an acceptable level of safety for complying with the requirements of this AD. Therefore, the final rule has been revised to add a new paragraph (d) that provides for compliance with the requirements of this AD.

Conclusion

After careful review of the available data, including the comment noted above, the FAA has determined that air safety and the public interest require the adoption of the rule with the changes previously described. The FAA has determined that these changes will neither increase the economic burden on any operator nor increase the scope of the AD.

Cost Impact

The FAA estimates that 131 airplanes of U.S. registry will be affected by this AD.

It will take approximately 33 work hours [for Model CL-600-1A11 (CL-600) series airplanes] or 26 work hours [for Model CL-600-2A12 (CL-601) series airplanes] per airplane to accomplish the required modification, at an average labor rate of $60 per work hour. Required parts will cost approximately $2,977 per airplane. Based on these figures, the cost impact of this action required by this AD on U.S. operators is estimated to be $649,367, or $4,957 per airplane [for Model CL-600-1A11 (CL-600) series airplanes], and $594,347, or $4,537 per airplane [for Model CL-600-2A12 (CL-601) series airplanes].

It will take approximately 1 work hour per airplane to accomplish the required AFM revision, at an average labor rate of $60 per work hour. Based on these figures, the cost impact of the AFM revision required by this AD on U.S. operators is estimated to be $7,860, or $60 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

In the event an operator chooses to install the new AFM revisions specified in paragraph (d) of this AD, it will take approximately 1 work hour per airplane to accomplish, at an average labor rate of $60 per work hour. Based on these figures, the cost impact of the AFM revision specified in paragraph (d) of this AD on U.S. operators is estimated to be $7,860, or $60 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-19-01 Bombardier, Inc. (Formerly Canadair): Amendment 39-11902. Docket 99-NM-26-AD.

Applicability: Model CL-600-1A11 (CL-600) series airplanes, serial numbers 1004 through 1066 inclusive and 1068 through 1085 inclusive, and Model CL-600-2A12 (CL-601) series airplanes, serial numbers 3001 through 3050 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent water freezing on the brake while the airplane is in flight due to water, slush, or snow from the runway entering into the brake assemblies during takeoff, and consequently, a tire burst during landing of the airplane, accomplish the following:

Modification and AFM Revision

(a) Except as required by paragraph (b) of this AD, within 300 flight cycles after the effective date of this AD, accomplish the actions required by paragraphs (a)(1) and (a)(2) of this AD in accordance with the Accomplishment Instructions of Canadair Challenger Service Bulletin 600-0369, Revision 4, dated June 27, 1984, including Attachment 1, dated December 6, 1983, and Attachment 2, dated January 11, 1984 [for Model CL-600-1A11 (CL-600) series airplanes]; or 601-0024, Revision 3, dated November 27, 1984, including Attachment 1, dated June 21, 1984, Attachment 2, dated December 6, 1983, and Attachment 3, dated January 11, 1984 [for Model CL-600-2A12 (CL-601) series airplanes]; as applicable.

(1) Modify the main landing gear (MLG) brake units and inboard MLG wheels.

Note 2: Part A of the Accomplishment Instructions of Canadair Challenger Service Bulletin 600-0369, Revision 4, dated June 27, 1984, including Attachment 1, dated December 6, 1983, and Attachment 2, dated January 11, 1984; has been accomplished on airplane serial number 1072 in production.

(2) Revise the Normal Procedures Section of the FAA-approved Airplane Flight Manual (AFM) to include the brake cooling times for the modification specified in paragraph (a)(1) of this AD. This AFM revision may be accomplished by inserting the applicable AFM revision listed in the applicable service bulletin listed in paragraph (a) of this AD. Subsequent AFM revisions may be inserted in the AFM provided that the brake cooling information is identical to the applicable AFM revision listed in the applicable service bulletin listed in paragraph (a) of this AD.

(b) Operation of the airplane from contaminated runways (i.e., wet, snow covered, or slush covered surfaces) is prohibited until the actions required by paragraph (a) or (d) of this AD are accomplished.

Optional Placard Installation and AFM Revisions

(c) For airplanes that do not operate from a wet runway where the ambient temperature is below 10 degrees Celsius: It is permissible to remove the inboard and/or outboard wheel discs upon accomplishment of the actions specified in paragraphs (c)(1) and (c)(2) of this AD, in accordance with Canadair Challenger Service Bulletin 600-0662, dated November 30, 1995 [for Model CL-600-1A11 (CL-600) series airplanes]; or 601-0467, dated November 30, 1995 [for Model CL-600-2A12 (CL-601) series airplanes]; as applicable. The placard and AFM revision required by paragraphs (c)(1) and (c)(2) of this AD may be removed upon reinstallation of the inboard and outboard wheel discs.

(1) Install a placard on the instrument panel that states the following: “WHEEL DISCS ARE REMOVED—REFER TO AFM FOR LIMITATIONS”

(2) Revise the Limitations Section of the AFM to include information for operating the airplane with the wheel discs removed. This AFM revision may be accomplished by inserting the applicable AFM revision specified in the applicable service bulletin listed in paragraph (a) of this AD. Subsequent AFM revisions may be inserted in the AFM provided that the information for operating the airplane with the wheel discs removed is identical to the applicable AFM revision specified in the applicable service bulletin listed in paragraph (a) of this AD.

Acceptable Methods of Compliance

(d) For all airplanes: Installation of the AFM revision specified in either paragraph (d)(1) or (d)(2) of this AD, as applicable, is acceptable for compliance with the requirements of paragraphs (a) and (b) of this AD, as applicable.

(1) Bombardier Model CL-600-1A11 (CL-600) AFM Revisions A84 and 76, both dated February 7, 2000; or

(2) Bombardier Model CL600-2A12 (CL-601) AFM Revisions 45, 48, 50, and 86, all dated February 7, 2000.

Alternative Methods of Compliance

(e) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 3: Information concerning the existence of approved alternative methods of compliance with this AD, if any, may be obtained from the New York ACO.

Special Flight Permits

(f) Special flight permits may be issued in accordance with sections 21.197 and 21.199 of the Federal Aviation Regulations (14 CFR 21.197 and 21.199) to operate the airplane to a location where the requirements of this AD can be accomplished.

Incorporation by Reference

(g)(1) The actions required by paragraph (a) of this AD shall be done in accordance with Canadair Challenger Service Bulletin 601-0024, Revision 3, dated November 27, 1984, including Attachment 1, dated June 21, 1984, Attachment 2, dated December 6, 1983, and Attachment 3, dated January 11, 1984; or Canadair Challenger Service Bulletin 600-0369, Revision 4, dated June 27,1984, including Attachment 1, dated December 6, 1983, and Attachment 2, dated January 11, 1984; as applicable. Revision 3 of Canadair Challenger Service Bulletin 601-0024 contains the list of effective pages specified in Table 1 of this AD. Revision 4 of Canadair Challenger Service Bulletin 600-0369 contains the list of effective pages specified in Table 2 of this AD. Tables 1 and 2 are as follows:

Table 1
Page Number | Revision level shown on page | Date shown on page
1-10 | 3 | November 27, 1984.
1-13 | Attachment 1, Rev. 1 | June 21, 1984.
1, 2 | Attachment 2 | December 6, 1983
1, 2 | Attachment 3 | January 11, 1984.

Table 2
Page Number | Revision level shown on page | Date shown on page
1-10 | 4 | June 27, 1984.
1, 2 | Attachment 1 | December 6, 1983.
1, 2 | Attachment 2 | January 11, 1984.

(2) This incorporation by reference was approved by the Director of the Federal Register in accordance with 5 U.S.C. 552(a) and 1 CFR part 51. Copies may be obtained from Bombardier, Inc., Canadair, Aerospace Group, P.O. Box 6087, Station Centre-ville, Montreal, Quebec H3C 3G9, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

Note 4: The subject of this AD is addressed in Canadian airworthiness directive CF-84-04R2, dated July 24, 1998.

(h) This amendment becomes effective on October 20, 2000.

Issued in Renton, Washington, on September 8, 2000.
Donald L. Riggin,
Acting Manager, Transport Airplane Directorate, Aircraft Certification Service.

[FR Doc. 00-23579 Filed 9-19-00; 8:45 am]

BILLING CODE 4910-13-P